DEPARTMENT OF TRANSPORTATION

Federal Aviation Administration

14 CFR Part 39

[Docket No. 2000-SW-30-AD]

Airworthiness Directives; Eurocopter France Model AS-350B, BA, B1, B2, and D; and AS-355E, F, F1, F2, and N Helicopters

AGENCY: Federal Aviation Administration, DOT.

ACTION: Notice of proposed rulemaking (NPRM).

SUMMARY: This document proposes the supersedure of an existing airworthiness directive (AD) for Eurocopter France Model AS-350B, BA, B1, B2, and D; and AS-355E, F, F1, F2, and N helicopters.

That AD currently requires inspecting the main gearbox suspension bi-directional cross beam (cross beam) for cracks, replacing the cross beam if a crack is found, and adding time intervals for repetitive dye-penetrant inspections on cross beams with 5,000 or more hours time-in-service (TIS). This action would require the same inspections as the existing AD but would delete repetitive dye-penetrant inspections on cross beams with 5,000 or more hours TIS. This proposal is prompted by the discovery that repetitive dye-penetrant inspections were erroneously required in the existing AD. The actions specified by the proposed AD are intended to prevent failure of the cross beam that could lead to rotation of the main gearbox, severe vibrations, and a subsequent forced landing.

DATES: Comments must be received on or before November 13, 2000.

ADDRESSES: Submit comments in triplicate to the Federal Aviation Administration (FAA), Office of the Regional Counsel, Southwest Region, Attention: Rules Docket No. 2000-SW-30-AD, 2601 Meacham Blvd., Room 663, Fort Worth, Texas 76137. You may also send comments electronically to the Rules Docket at the following address: 9-asw-adcomments@faa.gov. Comments may be inspected at this location between 9 a.m. and 3 p.m., Monday through Friday, except Federal holidays.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this notice may be changed in light of the comments received.

Comments are specifically invited on the overall regulatory, economic, environmental, and energy aspects of the proposed rule. All comments submitted will be available in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 2000-SW-30-AD.” The postcard will be date stamped and returned to the commenter.

Availability of NPRMs

You may obtain a copy of this NPRM by submitting a request to the FAA, Office of the Regional Counsel, Southwest Region, Attention: Rules Docket No. 2000-SW-30-AD, 2601 Meacham Blvd., Room 663, Fort Worth, Texas 76137.

Discussion

On May 11, 2000, the FAA issued AD 2000-10-10, Amendment 39-11734 (65 FR 32016, May 22, 2000), to require visual and dye-penetrant inspections of the cross beam for cracks and replacement with an airworthy cross beam if a crack is found.

That action also added a time interval for repetitive dye-penetrant inspections on cross beams with 5,000 or more hours TIS. That action was prompted by several reports of cracks in the cross beam. The requirements of that AD are intended to prevent failure of the cross beam that could lead to rotation of the main gearbox, severe vibrations, and a subsequent forced landing.

Since the issuance of that AD, the FAA has received a comment from the manufacturer stating that the repetitive dye-penetrant inspection of the cross beam after 5,000 hours was in error. That error was corrected by Maintenance Note 05.09, dated July 11, 1997, and an Erratum to Eurocopter France Service Bulletin Nos. 05.00.28 and 05.00.29, both dated May 26, 1996. The dye-penetrant inspection for cracks must be performed within 550 hours TIS or 2,750 operating cycles, whichever occurs first, after the cross beams attain 5,000 hours TIS. The FAA has evaluated all the available information and agrees that the repetitive dye-penetrant inspection is not needed in the interest of aviation safety.

We have identified an unsafe condition that is likely to exist or develop on other Eurocopter France Model AS-350B, BA, B1, B2, and D, and Model AS-355E, F, F1, F2, and N helicopters of these same type designs. The proposed AD would supersede AD 2000-10-10 to contain the same requirements but would delete the requirement to perform repetitive dye penetrant inspections.

The FAA estimates that 454 helicopters of U.S. registry would be affected by this proposed AD. It would take approximately 0.5 work hour to accomplish each visual inspection, with an estimated average of 150 visual inspections, 3 work hours to accomplish a dye-penetrant inspection, and 6 work hours to replace the cross beam, if necessary per helicopter. The average labor rate is $60 per work hour. Parts would cost approximately $6,000 per cross beam. Based on these figures, the total cost impact of the proposed AD on U.S. operators is estimated to be $5,012,160 to perform 150 visual inspections, one dye-penetrant inspection, and to replace one cross beam on all 454 helicopters.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11734 (65 FR 32016, May 22, 2000) and by adding a new airworthiness directive (AD) to read as follows:

Eurocopter France: Docket No. 2000-SW-30-AD. Supersedes AD 2000-10-10, Amendment 39-11734, Docket No. 99-SW-39-AD.

Applicability: Model AS-350B, BA, B1, B2, and D; and AS-355E, F, F1, F2, and N helicopters, with main gearbox suspension bi-directional cross beam (cross beam), part number (P/N) 350A38-1018-all dash numbers, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent failure of the cross beam that could lead to rotation of the main gearbox, severe vibrations, and a subsequent forced landing, accomplish the following:

(a) For cross beams having 2,000 or more hours time-in-service (TIS) or 10,000 or more operating cycles, whichever occurs first:

Note 2: The Master Service Recommendations and the flight log contain accepted procedures that are used to determine the cumulative operating cycles on the rotorcraft.

(1) Within 30 hours TIS, and thereafter at intervals not to exceed 30 hours TIS or 150 operating cycles, whichever occurs first, visually inspect the cross beam for a crack in accordance with paragraph 2.B.1) of Eurocopter France Service Bulletin No. 05.00.28, applicable to Model AS-350 helicopters, or Eurocopter France Service Bulletin No. 05.00.29, applicable to Model AS-355 helicopters, both dated May 26, 1997.

(2) If a crack is found, remove the cross beam and replace it with an airworthy cross beam.

(b) For cross beams having 5,000 or more hours TIS:

(1) Within 550 hours TIS or 2,750 operating cycles, whichever occurs first, perform a dye-penetrant inspection in accordance with paragraph 2.B.2) of Eurocopter France Service Bulletin No. 05.00.28, applicable to Model AS-350 helicopters, or Eurocopter Service Bulletin No. 05.00.29, applicable to Model AS-355 helicopters, both dated May 26, 1996.

(2) If a crack is found, remove the cross beam and replace it with an airworthy cross beam.

(c) Before installing any replacement cross beams, regardless of TIS or operating cycles, inspect the replacement cross beam in accordance with paragraph (b)(1) of this AD.

(d) Modifying the helicopter in accordance with paragraph 2.B of the Accomplishment Instructions in Eurocopter Service Bulletin No. 63.00.07, applicable to Model AS-350B, BA, B1, B2, and D helicopters, or Eurocopter Service Bulletin No. 63.00.13, applicable to Model AS-355E, F, F1, F2, and N helicopters, both dated April 7, 1997, constitutes terminating action for the requirements of this AD.

(e) An alternative method of compliance or adjustment of the compliance time that provides an acceptable level of safety may be used if approved by the Manager, Regulations Group, FAA, Rotorcraft Directorate. Operators shall submit their requests through an FAA Principal Maintenance Inspector, who may concur or comment and then send it to the Manager, Regulations Group.

Note 3: Information concerning the existence of approved alternative methods of compliance with this AD, if any, may be obtained from the Regulations Group.

(f) Special flight permits may be issued in accordance with 14 CFR 21.197 and 21.199 to operate the helicopter to a location where the requirements of this AD can be accomplished.

Note 4: The subject of this AD is addressed in Direction Generale De L'Aviation Civile (France) AD 96-156-071(B)R1 and AD 96-155-053(B)R1, both dated June 4, 1997.

Issued in Fort Worth, Texas, on September 1, 2000.
Henry A. Armstrong,
Manager, Rotorcraft Directorate, Aircraft Certification Service.

[FR Doc. 00-23210 Filed 9-8-00; 8:45 am]

BILLING CODE 4910-13-U